FEDERAL RETIREMENT THRIFT INVESTMENT BOARD

5 CFR Part 1631

Availability of Records; Correction

AGENCY: Federal Retirement Thrift Investment Board.

ACTION: Direct final rule; correction.

SUMMARY: The Federal Retirement Thrift Investment Board (Agency) published a direct final rule in the February 27, 2012, Federal Register, pursuant to the Privacy Act of 1974, as amended, to permit Freedom of Information Act (FOIA) requests via electronic mail and facsimile. The direct final rule was published with an incorrect facsimile number. This facsimile number publication was a technical error, and is hereby corrected.

DATES: Effective October 2, 2012.

FOR FURTHER INFORMATION CONTACT: Erin F. Graham, (202)-942-1605.

SUPPLEMENTARY INFORMATION: This document contains corrections to FRTIB regulations stemming from the direct final rule published in the February 27, 2012, Federal Register (77 FR 11384) and provides the correct facsimile number for FOIA requests.

List of Subjects in 5 CFR Part 1631

Courts, Freedom of information, Government employees.

Accordingly, 5 CFR part 1631 is amended by making the following correcting amendment:

PART 1631—AVAILABILITY OF RECORDS

1. The authority citation for part 1631 continues to read as follows:

Authority: 5 U.S.C. 552.

§ 1631.6 [Amended]

2. In § 1631.6, in paragraph (a)(3), revise “202-942-1776” to read “202-942-1676”.

Dated: September 6, 2012
James B. Petrick,
General Counsel.

[FR Doc. 2012-22512 Filed 10-1-12; 8:45 am]

BILLING CODE 6760-01-P